DEPARTMENT OF HEALTH AND HUMAN SERVICES

Health Resources and Services Administration

Advisory Committee on Training in Primary Care Medicine and Dentistry; Notice of Meeting

In accordance with section 10(a)(2) of the Federal Advisory Committee Act (Pub. L. 92-463), notice is hereby given of the following meeting:

Name: Advisory Committee on Training in Primary Care Medicine and Dentistry (ACTPCMD).

Date and Time: November 1, 2012, 10:00 a.m.-5:00 p.m. Eastern Time.

Place: Webinar format.

SUPPLEMENTARY INFORMATION:

Status: The meeting will be open to the public.

Purpose: The Advisory Committee provides advice and recommendations on a broad range of issues relating to grant programs authorized by sections 222 and 749 of the Public Health Service Act, as amended by section 5103(d) and re-designated by section 5303 of the Patient Protection and Affordable Care Act of 2010.

At this meeting, the Advisory Committee will finalize its report on the inter-professional education of primary care providers. The Committee will also select a topic for its next report and begin planning how to approach the writing of that report. The Committee's reports are submitted to the Secretary of the Department of Health and Human Services; the Committee on Health, Education, Labor and Pensions of the Senate; and the Committee on Energy and Commerce of the House of Representatives.

Agenda: The meeting on Thursday, November 1, 2012, will begin with opening comments from HRSA senior officials. Work on the Committee's tenth report on inter-professional training of primary care providers will begin with an update by the report's writing group. The Committee will then complete the report and approve the final draft. Before the next major agenda item, HRSA staff will present a brief update on the Agency's efforts in the area of interprofessional oral health clinical competencies. Much of the remaining meeting time will be spent on determining a topic for the next report, establishing a writing group to guide the writing process, and developing a report outline. The Committee also will plan for the next Advisory Committee meeting, which will be a face-to-face meeting in April 2013, and determine report work to be done in the interim. An opportunity will be provided for public comment at the end of the meeting.

For members of the public interested in gaining access to the webinar, please use the following URL: https://hrsa.connectsolutions.com/actpcmd/. The audio portion of the meeting will be computer-based. Anyone wishing to make a public comment should use the Question & Answer Pod any time during the meeting. The questions will be collected and as many addressed as possible during time provided at the end of the meeting. Anyone wishing further information on the webinar aspects of the meeting should contact Iwona Grodecki at (301) 443-8379.

FOR FURTHER INFORMATION CONTACT: Anyone interested in obtaining a roster of members or other relevant information should write or contact Jerilyn K. Glass, M.D., Ph.D., Division of Medicine and Dentistry, Bureau of Health Professions, Health Resources and Services Administration, Room 9A-27, Parklawn Building, 5600 Fishers Lane, Rockville, Maryland 20857, Telephone (301) 443-7271. The web address for information on the Advisory Committee is http://www.hrsa.gov/advisorycommittees/bhpradvisory/actpcmd/index.html.

Dated: October 12, 2012.
Bahar Niakan,
Director, Division of Policy Information and Coordination.

[FR Doc. 2012-25662 Filed 10-17-12; 8:45 am]

BILLING CODE 4165-15-P